DEPARTMENT OF THE INTERIOR

Bureau of Ocean Energy Management, Regulation and Enforcement

Cape Wind Energy Project

AGENCY: Bureau of Ocean Energy Management, Regulation and Enforcement (BOEMRE), Interior.

ACTION: Notice of the Availability (NOA) of an Environmental Assessment (EA); NOA of a Record of Decision (ROD).

SUMMARY: Pursuant to the Council on Environmental Quality (CEQ) regulation implementing the National Environmental Policy Act (NEPA) at 40 CFR 1506.6, BOEMRE announces the availability of an EA, a Finding of No New Significant Impact (FONNSI), and a ROD on whether to approve, approve with modifications, or disapprove a Construction and Operations Plan (COP) for the Cape Wind Energy Project located on the Outer Continental Shelf (OCS) in Nantucket Sound, off the coast of Massachusetts. BOEMRE prepared the EA to determine whether there are any substantial changes in the proposed action or whether there is new information since the first ROD (2010 ROD) approving the issuance of a lease to Cape Wind Associates (CWA) that would require preparation of a Supplemental Environmental Impact Statement (SEIS). This EA was also prepared to assist BOEMRE in deciding whether to approve, approve with modifications, or disapprove CWA's COP for a commercial wind facility. On the basis of the analysis contained in the EA, BOEMRE has determined that a SEIS is not required and has prepared a FONNSI supporting that determination (See Section 2 of this notice). After careful consideration, BOEMRE has decided to issue this second ROD (2011 ROD) approving CWA's COP with modifications (See Section 3 of this notice).

Availability: The EA, FONNSI, and ROD are available at http://www.boemre.gov/offshore/RenewableEnergy/CapeWind.htm.

FOR FURTHER INFORMATION CONTACT: Michelle Morin, BOEMRE Office of Offshore Alternative Energy Programs, 381 Elden Street, MS 4090, Herndon, Virginia 20170-4817, (703) 787-1340 or michelle.morin@boemre.gov.

Authority: The NOA of an EA, FONNSI, and ROD is published pursuant to 43 CFR 46.305.

SUPPLEMENTARY INFORMATION:

1. Background

In November 2001, CWA applied for a permit from the U.S. Army Corps of Engineers (USACE) under the Rivers and Harbors Act of 1899 to proceed with its proposal to construct an offshore wind power facility on the OCS in Nantucket Sound, on Horseshoe Shoal. In 2005, the Energy Policy Act of 2005 (EPAct) was passed amending the Outer Continental Shelf Lands Act (OCSLA). The OCSLA amendments granted the Secretary of the Department of the Interior (DOI) the authority to issue leases, easements, or rights-of-way for renewable energy projects on the OCS. The Secretary delegated that authority to the Minerals Management Service (now BOEMRE). During the fall of 2005, BOEMRE reviewed the CWA proposal and determined that BOEMRE would proceed with the review by preparing a Cape Wind Draft Environmental Impact Statement (DEIS).

BOEMRE published the DEIS on January 18, 2008 (73 FR 3482), which was followed by publication of the Final Environmental Impact Statement (FEIS) (74 FR 3635) on January 21, 2009. On May 4, 2010, BOEMRE published the NOA of the 2010 EA (75 FR 23798) and the NOA of the 2010 ROD, which authorized the issuance of a lease to CWA (75 FR 34152). On October 6, 2010, BOEMRE and CWA signed a lease, effective on November 1, 2010, that granted CWA the exclusive right to submit, for BOEMRE's approval, a COP detailing the construction, operation, and decommissioning of its proposed project. CWA submitted its COP to BOEMRE on October 29, 2010, and a revised version of the COP on February 4, 2011.

As detailed in the COP, the Proposed Action remains substantially the same as that described in the FEIS (FEIS, pp. 2-1 to 2-32). The Proposed Action calls for 130, 3.6 +/−MW wind turbine generators (WTG), each with a maximum blade height of 440 feet (ft), to be constructed in a grid pattern on the OCS in Nantucket Sound offshore Cape Cod, Martha's Vineyard, and Nantucket Island, Massachusetts (the Islands). With a maximum electric output of 468 MW and an average anticipated output of approximately 182 MW, the facility is projected to generate up to three-quarters of Cape Cod and the Islands' annual electricity demand. Each of the 130 WTGs will generate electricity independently. Solid dielectric submarine inner-array cables (33 kilovolt) from each WTG will interconnect within the array and terminate on an electrical service platform (ESP), which will serve as the common interconnection point for all of the WTGs. The proposed submarine transmission cable system (115 kilovolt) running from the ESP to the landfall location in Yarmouth would be approximately 12.5 miles (mi.) in length (7.6 mi. of which would fall within Massachusetts' territory).

2. Environmental Assessment and Finding of No New Significant Impact

BOEMRE prepared an EA in order to determine whether an SEIS is required and to assist BOEMRE in deciding whether to approve, approve with modifications, or disapprove CWA's application to construct, operate, and decommission a commercial wind facility in Nantucket Sound off the coast of Massachusetts as described in the FEIS and its COP. In accordance with CEQ regulations, the EA examined whether there are any “substantial changes in the proposed action that are relevant to environmental concerns” or “significant new circumstances or information relevant to environmental concerns and bearing on the proposed action” that either were not fully discussed in the FEIS or did not exist at the time the 2010 ROD was issued (40 CFR 1502.9).

BOEMRE sought public input during its review of the Cape Wind COP by posting the COP, as well the Notice of Preparation of an EA for the purpose stated above, on the BOEMRE Web site, which announced the start of the public comment period on February 22, 2011. Consulting parties and local governments were informed of the comment period via e-mail, which provided the BOEMRE Web site and address for comments. Approximately 160 comments were received and are available at http://www.regulations.gov/#!docketDetail;rpp=10;po=0;D=BOEM-2011-0007. Issues that BOEMRE considered include: Additional surveys and sampling; conflicts with aviation traffic and fishing use; emergency response; migratory birds; microclimate; oil within wind turbine generators; sloshing dampers; transition piece grout; permits issued by other Federal agencies; and consultations with other agencies.

As a result of its review described in the EA, BOEMRE found no substantial changes in the proposed action or new information that would require it to supplement the analysis in the FEIS, and prepared a FONNSI.

3. Record of Decision

In preparing its decision on whether or not to approve the Cape Wind Energy Project COP, BOEMRE considered alternatives to the Proposed Action, the impacts as presented in the FEIS, and all comments received throughout the NEPA process. The FEIS assessed the physical, biological and socioeconomic impacts of the Proposed Action and 13 alternatives, including a no-action alternative. Since publication of the FEIS in January 2009, BOEMRE prepared two EAs to evaluate whether substantial changes in the proposed action that are relevant to environmental concerns or significant new circumstances or information relevant to environmental concerns and bearing on the proposed action were either not fully discussed or did not exist at the time of the preparation of the FEIS such that BOEMRE would be required to supplement the FEIS.

After careful consideration, BOEMRE, as documented in the 2011 ROD, has decided to approve CWA's COP with modifications. The subjects of the additional terms and conditions included in the COP include: Scour and benthic monitoring; turbine foundations; compliance with other Federal laws; compliance with generally accepted industry standards; certified verification agent nomination; safety management system; contractor's responsibilities; operations and maintenance plan; avoidance of cultural resources; supplementary surveys; and sloshing dampers.

Dated: April 18, 2011.
L. Renee Orr,
Acting Associate Director for Offshore Energy and Minerals Management.

[FR Doc. 2011-9779 Filed 4-21-11; 8:45 am]

BILLING CODE 4310-MR-P